DEPARTMENT OF TRANSPORTATION

Office of the Secretary

[Docket No. OST-96-1960]

Requirement That Air Carriers Amend Plans To Address the Needs of Families of Passengers Involved in Aircraft Accidents

AGENCY: Office of the Secretary, DOT.

ACTION: Notice.

SUMMARY: This is to advise certificated air carriers that the Wendell H. Ford Aviation Investment and Reform Act for the 21st Century (AIR-21) (Pub. L. 106-181; 114 Stat. 61; April 5, 2000) amends 49 U.S.C. 41113(b) to require, among other things, that certificated air carriers submit to the Department and the National Transportation Safety Board additional assurances for their respective plans to address the needs of families of passengers involved in aircraft accidents. The content and filing requirements for the update to the plans applicable to certificated air carriers are set forth in Title IV, section 402, of AIR-21.

The additional assurances required to be submitted are described in Paragraphs (a)(1), (2), and (3) of section 402 of AIR-21. Under the section, certificated air carriers must submit their updated plans to the Department and the NTSB within 180 days of the statute's enactment. Since AIR-21 was signed into law on April 5, 2000, updated plans are due to be filed not later than Monday, October 2, 2000.

Each certificated carrier should submit its plan in its entirety, that is, the plan as it exists with the new assurances as set forth in AIR-21. We expect each certificated carrier to give a high priority to the timely preparation and submission of its plan and meet the 180-day deadline for filing updated plans required by AIR-21. We note that the requirements of section 41113 apply to all certificated air carriers, including those holding cargo-only authority and those operating small aircraft. We remind all certificated carriers that while a carrier may, if it chooses, contract with an outside source to act as a point of contact and provide services covered in the submitted assurances in the event of an accident, in such a situation full responsibility for complying with the provisions of the law remains with the carrier.

We would also like to take this opportunity to request, on behalf of the NTSB, that each carrier provide the NTSB an updated 24-hour telephone number for its operations center for use in the event of an emergency, and that the number be updated with the NTSB in the future as necessary.

DATES: Updated plans are due to be filed not later than Monday, October 2, 2000.

ADDRESSES: Plans should be submitted to the Department and the NTSB at the following addresses:

Dockets—Docket OST-96-1960, U.S. Department of Transportation, 400 Seventh Street SW., Room PL 401, Washington, DC 20590;

Erik Grosof, Office of Family Affairs, National Transportation Safety Board, 490 L’Enfant Plaza East, SW., Washington, DC 20594.

FOR FURTHER INFORMATION CONTACT: Questions concerning the contents of the plans may be addressed to Erik Grosof, Office of Family Affairs, NTSB, at (202) 314-6189. Questions concerning the applicability of the requirements of section 41113 to a particular air carrier should be addressed to Dayton Lehman, Deputy Assistant General Counsel for Aviation Enforcement and Proceedings, DOT, at (202) 366-9342.

Thank you for your cooperation on this important issue.

Issued in Washington, DC, on June 8, 2000.
Samuel Podberesky,
Assistant General Counsel for Aviation Enforcement and Proceedings.

[FR Doc. 00-15654 Filed 6-20-00; 8:45 am]

BILLING CODE 4910-62-P